DEPARTMENT OF COMMERCE

Foreign-Trade Zones Board

[Order No. 1874]

Expansion of Foreign-Trade Zone 44; Morris County, NJ

Pursuant to its authority under the Foreign-Trade Zones Act of June 18, 1934, as amended (19 U.S.C. 81a-81u), the Foreign-Trade Zones Board (the Board) adopts the following Order:

Whereas, the New Jersey Department of State, grantee of Foreign-Trade Zone 44, submitted an application to the Board for authority to expand FTZ 44, to add a new site (Site 7) in Flanders, New Jersey, within and adjacent to the New York/Newark Customs and Border Protection port of entry (FTZ Docket 83-2011, filed 12/20/11);

Whereas, notice inviting public comment has been given in the Federal Register (76 FR 80885, 12/27/11) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 44 is approved, subject to the FTZ Act and the Board's regulations, including Section 400.13.

Signed at Washington, DC, this 20th day of December 2012.
Paul Piquado,
Assistant Secretary of Commerce for Import Administration, Alternate Chairman, Foreign-Trade Zones Board.
Attest:
Andrew McGilvray,
Executive Secretary.

[FR Doc. 2013-00348 Filed 1-9-13; 8:45 am]

BILLING CODE P